DEPARTMENT OF HEALTH AND HUMAN SERVICES

Administration for Children and Families

Submission for OMB Review; Comment Request

Title: Summary Data Component, National Child Abuse and Neglect Data System (NCANDS).

OMB No.: 0980-0229.

Description: The Child Abuse and Neglect Treatment Act (42 U.S.C. 5101 et seq.) as amended requires States to annually work with the Secretary to provide to the maximum extent practical, a report that includes 12 data items listed in the statute. The National Child Abuse and Neglect Data System (NCANDS), administered by the Children's Bureau, meets this reporting requirement. In addition, the amendments of 1988 require that the data system shall be universal and case specific and integrated with other case-based foster care and adoption data collected by the Secretary. There are two data components, the Detailed Case Data Component (DCDC), which includes the case-level data submitted through the Child File and some aggregated data submitted through the Agency File, and the Summary Data component (SC), which is used by States that cannot submit case-level data. No changes are being requested. The Summary Data Component will be phased out over the next few years as the number of States that can complete the Child File increases.

Respondents: State Child Welfare Agencies.

Annual Burden Estimates
Instrument | Number of respondents | Number of responses per respondent | Average burden hours per response | Total burden hours
Child File | 50 | 1 | 80 | 4,000
Agency File | 50 | 1 | 24 | 1,200
Summary Data Component (SDC) | 2 | 1 | 32 | 64

Estimated Total Annual Burden Hours: 5,264.

Additional Information

Copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment

OMB is required to make a decision concerning the collection of information between 30 and 60 days after publication of this document in the Federal Register. Therefore, a comment is best assured of having its full effect if OMB receives it within 30 days of publication. Written comments and recommendations for the proposed information collection should be sent directly to the following:

Office of Management and Budget, Paperwork Reduction Project. Fax: 202-395-7245. Attn: Desk Officer for the Administration for Children and Families.

Dated: August 21, 2009.
Robert Sargis,
Reports Clearance Officer.

[FR Doc. E9-20546 Filed 8-25-09; 8:45 am]

BILLING CODE 4184-01-P